DEPARTMENT OF TRANSPORTATION

Office of the Secretary

[Docket No. DOT-OST-2012-0028]

Submission of U.S. Carrier Updated Tarmac Delay Contingency Plans to Department of Transportation for Approval

AGENCY: Office of the Secretary (OST), Department of Transportation (DOT).

ACTION: Notice.

SUMMARY: The purpose of this document is to serve as notice to covered U.S. carriers of the statutory obligation, pursuant to the FAA Modernization and Reform Act, 49 U.S.C. 42301(d), to submit updated tarmac delay contingency plans on or before May 14, 2015, to the U.S. Department of Transportation's Office of Aviation Enforcement and Proceedings (Enforcement Office). We request that covered carriers submit their plans through the established Web site: http://filingtarmacdelayplan.dot.gov.

FOR FURTHER INFORMATION CONTACT: Laura Jennings, Office of the General Counsel, U.S. Department of Transportation, 1200 New Jersey Ave. SE., W-96-429, Washington, DC 20590; Phone: (202) 366-9342; Fax: (202) 366-7152; Email: Laura.Jennings@dot.gov.

SUPPLEMENTARY INFORMATION:

Background

In 2012, pursuant to section 415 of the FAA Modernization and Reform Act of 2012, 49 U.S.C. 42301, (“the Act”) U.S. carriers operating scheduled passenger service or public charter service using any aircraft with a design capacity of 30 or more seats, and airport operators of large hub, medium hub, small hub, or non-hub U.S. airports were required to submit contingency plans for lengthy tarmac delay plans to the Secretary of Transportation for review and approval by May 14, 2012. Covered carriers and airports submitted their tarmac delay plans by the statutory deadline of May 14, 2012, and within 60 days of receipt of a tarmac delay plan, the Enforcement Office reviewed, approved, or, if necessary, required modifications to submitted plans. The Enforcement Office completed the process on August 23, 2012, after reviewing, requesting modifications, and approving 451 plans.

The purpose of this notice is to address the Act's recurring “updates” provision, 49 U.S.C. 42301(d)(1), which requires covered air carriers to resubmit updated plans every three years to the Secretary for review and approval.¹ As such, covered carriers are required to update their plans and submit the updated plan for review and approval by May 14, 2015. The submission and review process will be identical to the process used in May 2012.

¹ Airports are also required to submit updated plans on a recurring basis. 49 U.S.C. 42301(d)(2). The requirement for airports is every five years, thus the next submission deadline for covered airports will occur in May 2017.

Similar to 2012, the Department's Bureau of Transportation Statistics (BTS) has identified a preliminary list of those carriers that the Department believes to be covered by the statute. The preliminary list can be found on the Department's Aviation Consumer Protection Division Web site at www.dot.gov/airconsumer/flight-delays. Any U.S. carrier on the referenced list that believes it is not covered by the statute and should not be on the list should notify one of the Department contacts listed above as soon as possible. Similarly, if any U.S. carrier believes it is covered by the statute but does not appear on the list, that carrier should notify one of the Department contacts noted above.

Regarding the submission of updated plans, we request that carriers submit their plans through the established Web site: http://filingtarmacdelayplan.dot.gov. Most covered carriers already have an account created, but for any questions (e.g., forgotten usernames or passwords), please contact one of the Department contacts noted above. If a carrier needs to register for the first time and create an account, click on the hyperlink titled “Create Account to Submit Tarmac Delay Contingency Plan” in the blue sign-in box on the home page of the established Web site. For further reference, more detailed instructions regarding registering an account and submitting plans can be found at www.dot.gov/airconsumer/flight-delays. See May 2, 2012 Notice.

Pursuant to the Act, the Enforcement Office will have 60 days from receipt of a plan to review and approve a plan or, if necessary, require modifications to the updated plan. 49 U.S.C. 42301(e)(1). If the Enforcement Office fails to approve or require modifications to an updated plan within the 60-day timeframe, the plan shall be deemed approved. 49 U.S.C. 42301(e)(2).

To the extent carriers do not have any updates for their plans, the Enforcement Office will accept resubmission of the same plan. The language of the statute is clear, “an air carrier shall update each emergency contingency plan submitted by the carrier [] every 3 years and submit the update to the Secretary for review and approval.” 49 U.S.C. 42301(d)(1).

Issued this 21st day of April 2015, at Washington, DC.
Blane A. Workie,
Assistant General Counsel for Aviation Enforcement and Proceedings, U.S. Department of Transportation.

[FR Doc. 2015-09716 Filed 4-24-15; 8:45 am]

BILLING CODE 4910-9X-P